DEPARTMENT OF HEALTH AND HUMAN SERVICES

Centers for Medicare & Medicaid Services

[Document Identifiers: CMS-10669]

Agency Information Collection Activities: Proposed Collection; Comment Request

AGENCY: Centers for Medicare & Medicaid Services.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by July 2, 2018.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number ___, Room C4-26-05, 7500 Security Boulevard, Baltimore, Maryland 21244-1850.

To obtain copies of a supporting statement and any related forms for the proposed collection(s) summarized in this notice, you may make your request using one of following:

1. Access CMS' website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William Parham at (410) 786-4669.

SUPPLEMENTARY INFORMATION:

Contents

This notice sets out a summary of the use and burden associated with the following information collections. More detailed information can be found in each collection's supporting statement and associated materials (see ADDRESSES).

CMS-10669 Health Equity Technical Assistance Monitoring and Tracking

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Health Equity Technical Assistance Monitoring and Tracking; Use: The Centers for Medicare & Medicaid Services (CMS) Office of Minority Health (OMH) developed the CMS Equity Plan for Improving Quality in Medicare (CMS Equity Plan for Medicare). The Plan outlines CMS' path to help advance health equity by improving the quality of care provided to minority and other underserved Medicare beneficiaries, particularly those with disparities in chronic diseases. CMS identified six high-impact priority areas based on a review of the evidence base and stakeholder input. These priorities encompass both system- and community-level approaches to achieve equity in Medicare. Priority 2: Evaluate Disparities Impacts and Integrate Equity Solutions Across CMS Programs, focuses on increasing understanding of the impact CMS programs have on health disparities and on identifying, developing and integrating proven solutions to improve their impact on vulnerable populations.

CMS created a Health Equity Technical Assistance (TA) email (HealthEquityTA@cms.hhs.gov) to support CMS programs as they integrate health equity into their programs. This TA offers guidance from health equity subject matter experts on a variety of topics including reviewing data to identify health disparities, identifying root causes of health disparities, gaining an organizational champion, building organizational capacity to address health disparities, implementing interventions, tracking success of intervention, and serves as a portal to access health equity resources. Form Number: CMS-10669 (OMB control number: 0938-New); Frequency: Occasionally; Affected Public: Private sector (Business or other For-profits); Number of Respondents: 274; Total Annual Responses 274; Total Annual Hours: 23. (For policy questions regarding this collection contact Alexandra Bryden at 410-786-2076).

Dated: April 27, 2018.
William N. Parham, III,
Director, Paperwork Reduction Staff, Office of Strategic Operations and Regulatory Affairs.

[FR Doc. 2018-09329 Filed 5-1-18; 8:45 am]

BILLING CODE 4120-01-P